DEPARTMENT OF TRANSPORTATION

Federal Aviation Administration

RTCA Federal Advisory Committee

AGENCY: Federal Aviation Administration (FAA), DOT.

ACTION: Notice of RTCA charter renewal.

SUMMARY: The FAA is issuing this notice to advise the public of the renewal of the RTCA Charter (FAA Order 1110.77Y) for 2 months, effective March 29, 2018. The Federal Aviation Administration (FAA) is authorized to establish the RTCA advisory committee in accordance with the provisions of the Federal Advisory Committee Act (FACA). The current charter agreement requires that the RTCA manage various Federal subcommittees on behalf of the agency.

The objective of the advisory committee is to seek resolution of issues and challenges involving air transportation concepts, requirements, operational capabilities, the associated use of technology, and related considerations to aeronautical operations that affect the future of the Air Traffic Management System and the integration of new technologies.

FOR FURTHER INFORMATION CONTACT: Andy Cebula at acebula@rtca.org or (202) 330-0652, or the RTCA Secretariat, 1150 18th Street NW, Suite 910, Washington, DC, 20036, or by telephone at (202) 833-9339, fax at (202) 833-9434, or website at http://www.rtca.org.

SUPPLEMENTARY INFORMATION: The Federal Advisory Committee meetings are open to the public and announced in the Federal Register, except as authorized by Section 10(d) of the Federal Advisory Committee Act. Issued in Washington, DC, on March 27, 2018.

Mohannad Dawoud,
Management & Program Analyst, Partnership Contracts Branch, ANG-A17 NextGen, Procurement Services Division, Federal Aviation Administration.

[FR Doc. 2018-06474 Filed 3-29-18; 8:45 am]

BILLING CODE 4910-13-P